DEPARTMENT OF ENERGY

Federal Energy Regulatory Commission

[Project No. 96-042]

Pacific Gas and Electric Company; Notice of Application Accepted for Filing, Soliciting Comments, Motions To Intervene, and Protests

Take notice that the following hydroelectric application has been filed with the Commission and is available for public inspection:

a. Types of Application: Amendment of License.

b. Project No.: 96-042.

c. Date Filed: November 27, 2012.

d. Applicant: Pacific Gas and Electric Company.

e. Name of Project: Kerckhoff Hydroelectric Project.

f. Location: on the San Joaquin River in Fresno and Madera Counties, California, and affects lands of the United States.

g. Filed Pursuant to: Federal Power Act, 16 U.S.C. 791a-825r.

h. Applicant Contact: Alvin Thoma, Director Hydro Licensing, Pacific Gas and Electric Company, P.O. Box 770000, San Francisco, CA 94177-0001, Telephone No. (415) 973-4466, Email: ALT@pge.com; or Annette Faraglia, Esq., Law Department, Pacific Gas and Electric Company, P.O. Box 7442, San Francisco, CA, Telephone No. (415) 973-7145, Email: ARF3@pge.com.

i. FERC Contact: Mrs. Anumzziatta Purchiaroni, (202) 502-6191, Anumzziatta.Purchiaroni@ferc.gov.

j. Deadline for filing comments, motions to intervene, and protests: February 19, 2013.

All documents may be filed electronically via the Internet. See, 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Secretary, Federal Energy Regulatory Commission, 888 First Street NE., Washington, DC 20426. Please include the project number (P-96-042) on any comments or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of proposed amendment: The licensee is requesting approval to delete from the license and permanently retire from service one of the three units (Unit 2) at the Kerckhoff 1 Powerhouse. The unit is inoperable and unfeasible to repair given the cost of the repairs and the number of years remaining in the license term (ten years). The proposed modification would decrease the installed capacity of Kerckhoff 1 Powerhouse from 34,080 to 22,720 kW and the total hydraulic capacity from 1,775 to 1,200 cfs. The licensee is not proposing any changes to Kerckhoff 2 Powerhouse or existing project operation.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field (P-96) to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, 214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) Bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 4.34(b) and 385.2010.

Dated: January 17, 2013.
Kimberly D. Bose,
Secretary.

[FR Doc. 2013-01915 Filed 1-29-13; 8:45 am]

BILLING CODE 6717-01-P